DEPARTMENT OF HEALTH AND HUMAN SERVICES

Centers for Medicare & Medicaid Services

[CMS-6023-CN]

Medicare Program; Solicitation of Independent Accrediting Organizations To Participate in the Advanced Diagnostic Imaging Supplier Accreditation Program; Correction

AGENCY: Centers for Medicare & Medicaid Services (CMS), HHS.

ACTION: Correction notice.

SUMMARY: This document corrects a technical error in the notice entitled “Medicare Program; Solicitation of Independent Accrediting Organizations to Participate in the Advanced Diagnostic Imaging Supplier Accreditation Program” which was posted for public inspection by the Office of the Federal Register on October 30, 2009, and published in the Federal Register on November 25, 2009.

FOR FURTHER INFORMATION CONTACT: Sandra Bastinelli, (410) 786-3630.

SUPPLEMENTARY INFORMATION:

I. Background

In FR Doc. E9-26209, which was posted for public inspection by the Office of the Federal Register (OFR) on October 30, 2009, and published in the Federal Register on November 25, 2009, we made a technical error that is corrected in the Correction of Errors section below. The provisions in this correction notice are effective as if they had been included in the November 25, 2009 notice.

II. Summary of Errors

In section II.B. of the November 25, 2009 notice, we list the criteria that an accreditation organization must furnish to CMS to be considered for approval as a designated accreditation organization for Medicare under 42 CFR 414.68 (as issued in the “Medicare Program; Payment Policies Under the Physician Fee Schedule and Other Revisions to Part B for CY 2010” final rule with comment period, FR Doc. E9-26502, posted for public inspection by OFR on October 30, 2009). Due to a technical error, the list of criteria does not accurately reflect the requirements set out at new § 414.68.

III. Correction of Errors

In FR Doc. E9-26502 published on November 25, 2009 (74 FR 62189), correct section II.B. to read as follows:

“B. Application Requirements

To be considered for approval as a designated accreditation organization for Medicare requirements, an accreditation organization must furnish CMS the information and meet the criteria set out at 42 CFR 414.68, as issued in the “Medicare Program; Payment Policies Under the Physician Fee Schedule and Other Revisions to Part B for CY 2010” final rule with comment period, FR Doc. E9-26502, posted for public inspection by OFR on October 30, 2009.”

III. Waiver of Proposed Rulemaking

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice.

Section 553(d) of the APA ordinarily requires a 30-day delay in effective date of final rules after the date of their publication in the Federal Register. This 30-day delay in effective date can be waived, however, if an agency finds for good cause that the delay is impracticable, unnecessary, or contrary to the public interest, and the agency incorporates a statement of the findings and its reasons in the rule issued.

We note that section 1834(e) of the Act requires us to designate organizations to accredit suppliers furnishing the technical component (TC) of advanced diagnostic imaging services by January 1, 2010. Given the statutory deadline to designate organizations and the timing of the publication of this final rule with comment period, we believe it is impracticable to provide a notice and comment period or to delay the effective date of these criteria for designating organizations to accredit suppliers furnishing the TC of advanced diagnostic imaging services. In addition, it is unnecessary to provide a period for notice and comment or delay the effective date of this correction, because this correction notice does not change our policies regarding the application process, but merely clarifies that the application process is subject to a regulation that has already been the subject of notice and comment rulemaking. Therefore, we believe that we have good cause for waiving a notice and comment period, and making the imaging accreditation application process correction effective upon publication.

Authority: Section 1834(e) of the Act.

(Catalog of Federal Domestic Assistance Program No. 93.774, Medicare-Supplementary Medical Insurance Program)

Dated: November 23, 2009.
Dawn L. Smalls,
Executive Secretary to the Department.

[FR Doc. E9-28541 Filed 11-25-09; 11:15 am]

BILLING CODE 4120-01-P